DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 326.

SUMMARY: The FHWA, on behalf of Caltrans, is issuing this notice to announce actions taken by Caltrans and other Federal agencies that are final within the meaning of 23 U.S.C. 139(l)(1). The actions relate to a proposed local roadway project, a pedestrian overcrossing spanning Ted Williams Parkway on Shoal Creek Drive in the County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 27, 2010. If the Federal law that authorizes judicial review of a claim provides a time period of less than 180 days for filing such claim, then the shorter time period still applies.

FOR FURTHER INFORMATION CONTACT: Kevin Hovey, Senior Environmental Planner, Division of Environmental Analysis, California Department of Transportation, 4050 Taylor Street, San Diego, CA 92110, Regular Office Hours 7 a.m. to 3 p.m., Telephone number 619-688-0240, e-mail Kevin.Hovey@dot.ca.gov.

SUPPLEMENTARY INFORMATION: Effective June 7, 2010, the FHWA assigned, and the California Department of Transportation (Caltrans) assumed, environmental responsibilities for this project pursuant to 23 U.S.C. 326. Notice is hereby given that Caltrans has taken final agency actions subject to 23 U.S.C. 139(l)(1) by issuing licenses, permits, and approvals for the following project in the State of California: The project is located in the Carmel Mountain Ranch Community of the City of San Diego along Shoal Creek Drive. The proposed project will construct a pedestrian bridge over Ted Williams Parkway (a six lane primary arterial) from the northeast corner of Shoal Creek Drive to the southeast corner adjacent to Shoal Creek Elementary School. Project will be constructed in less than six months and will be constructed in two phases. The FHWA project reference number is HPLU 5004(168). The actions by the Federal agencies, and the laws under which such actions were taken, are described in the project files. The Categorical Exclusion, approved on 6/14/2010, and other project records are available by contacting Caltrans at the addresses provided above.

This notice applies to all Federal agency decisions as of the issuance date of this notice and all laws under which such actions were taken, including but not limited to:

1. National Environmental Policy Act (NEPA);

2. Safe, Accountable, Flexible, Efficient Transportation Equity Act: A Legacy for Users (SAFETEA-LU);

3. Migratory Bird Treaty Act;

4. Title VI of the Civil Rights Act of 1964;

5. National Historic Preservation Act of 1966;

6. Historic Sites Act of 1935.

(Catalog of Federal Domestic Assistance Program Number 20.205, Highway Planning and Construction. The regulations implementing Executive Order 12372 regarding intergovernmental consultation on Federal programs and activities apply to this program.)

Authority: 23 U.S.C. 139(l)(1).

Issued on: June 24, 2010.
Karen Bobo,
Director, Local Programs, Federal Highway Administration, Sacramento, California.

[FR Doc. 2010-15868 Filed 6-29-10; 8:45 am]

BILLING CODE 4910-RY-P